DEPARTMENT OF THE INTERIOR

Bureau of Land Management

[CO-930-1430-ET; COC-63081]

Public Land Order No. 7466; Withdrawal of Public Lands and Minerals for the Upper Colorado River Special Recreation Management Area; Colorado

AGENCY: Bureau of Land Management, Interior.

ACTION: Public Land Order.

SUMMARY: This order withdraws 12,237 acres of public lands from surface entry and mining and 1,020 acres of reserved Federal mineral interest from mining for 20 years to protect scenic and recreation values in the Upper Colorado River Special Recreation Management Area. In addition, 7,020 acres of non-Federal lands, if acquired by the United States, would also be withdrawn by this order. The lands have been and will remain open to mineral leasing.

EFFECTIVE DATE: October 16, 2000.

FOR FURTHER INFORMATION CONTACT: Doris E. Chelius, BLM Colorado State Office, 2850 Youngfield Street, Lakewood, Colorado 80215-7093, 303-239-3706.

By virtue of the authority vested in the Secretary of the Interior by Section 204 of the Federal Land Policy and Management Act of 1976, 43 U.S.C. 1714 (1994), it is ordered as follows:

1. Subject to valid existing rights, the following described public lands are hereby withdrawn from settlement, sale, location, or entry under the general land laws, including the United States mining laws (30 U.S.C. Ch. 2 (1994)), but not from leasing under the mineral leasing laws to protect scenic, wildlife, and recreation values in the Upper Colorado River Special Recreation Management Area:

Sixth Principal Meridian

T. 1 N., R. 79 W.,

Sec. 8, S½SW¼;

Sec. 17, NW¼ and N½SW¼;

Sec. 18, lot 3.

T. 1 N., R. 80 W.,

Sec. 13, lots 1 to 4, inclusive;

Sec. 14, SW¼SE¼ and a reconveyed parcel of land in the S½SW¼;

Sec. 15, lots 9 and 11, S½S½, and a reconveyed parcel of land in the N½SW¼;

Sec. 16, a reconveyed parcel of land in the S½S½;

Sec. 19, NE¼SE¼ and a reconveyed parcel in the N½NE¼;

Sec. 20, lots 2 and 3, S½N½, and NE¼SW¼;

Sec. 21, N½NE¼, S½NW¼, and a reconveyed parcel of land in the N½N½NW¼;

Sec. 22, lots 1 to 4, inclusive.

T. 1 N., R. 81 W.,

Sec. 13, SW¼SW¼;

Sec. 23, SE¼NW¼, NE¼SW¼, and NE¼SE¼;

Sec. 24, S½N½ and N½SE¼;

Sec. 27, N½, SW¼, and NW¼SE¼;

Sec. 28, SE¼ and SE¼SW¼;

Sec. 32, E½ and SW¼;

Sec. 33, N½NE¼, SW¼NE¼, and W½.

T. 1 S., R. 81 W.,

Sec. 5, lots 8 and 9;

Sec. 6, lots 6, 7, and lots 9 to 18, inclusive;

Sec. 7, lots 5 to 19, inclusive;

Sec. 18, lots 1 and 2, and E½NW¼.

T. 1 S., R. 82 W.,

Sec. 12, lots 1 to 5, inclusive, SW¼NE¼, E½SW¼, SW¼SW¼, and W½SE¼;

Sec. 13, lots 1 to 9, inclusive, W½SW¼ and that portion of Tract 53 lying westerly of the centerline of the Colorado River;

Sec. 14, SE¼SW¼, E½SE¼, and SW¼SE¼;

Sec. 22, SE¼;

Sec. 23, NE¼, E½NW¼, N½S½, and S½SW¼;

Sec. 24, lots 1, 2, and 3, NW¼NW¼, and S½NW¼;

Sec. 27, W½NW¼, SW¼SW¼, and reconveyed parcels in the W½NE¼ and the E½NW¼;

Sec. 28, lots 4 to 6, inclusive, NE¼NE¼, S½NE¼, NE¼SW¼, NW¼SE¼, and SE¼SE¼;

Sec. 32, lots 1, 3, 4, 5, and 8, SW¼SE¼, those portions of unpatented Mineral Survey No.13963 lying within the E½ of sec. 32, and that portion of Tract 82 within the E½;

Sec. 33, lots 1, 3, 4, 5, and 6, lots 8 to 11, inclusive, NE¼, E½NW¼, SW¼NW¼, and the Bona Dea Placer;

Sec. 34, lot 1 and NW¼NW¼.

T. 2 S., R. 82 W.,

Sec. 4, lots 12, 14, 15, 17, 18, and 19, lots 26 to 30, inclusive, S½NW¼, NW¼SW¼, and Bona Dea Placer;

Sec. 5, lots 5, 6, and 11, lots 14 to 23, inclusive, lots 25 and 26, S½NE¼, and N½SE¼;

Sec. 6, lots 20, 30, 31, 32, 37, and 38, S½NE¼, E½SW¼, SE¼NW¼, and SE¼;

Sec. 7, lots 5 to 7, inclusive, lots 11 to 21, inclusive, NE¼NE¼, SE¼SW¼, and SW¼SE¼;

Sec. 18, lots 5 to 12, inclusive, and lots 14 to 17, inclusive.

T. 2 S., R. 83 W.,

Sec. 12, lot 4;

Sec. 13, lots 1 to 4, inclusive, W½E½, and E½SW¼;

Sec. 23, E½NE¼, S½SW¼, SW¼SE¼, NE¼SE¼, N½SE¼SE¼, and N½S½SE¼SE¼;

Sec. 24, lot 1, W½E½ and W½;

Sec. 25, NW¼;

Sec. 26, NW¼NW¼NE¼, S½NW¼NE¼, S½NE¼, and NW¼.

The areas described aggregate approximately 12,237 acres in Grand and Eagle Counties.

2. Subject to valid existing rights, the reserved Federal mineral interest in the following described lands is hereby withdrawn from location and entry under the United States mining laws (30 U.S.C. Ch. 2 (1994)), but not from leasing under the mineral leasing laws, to protect scenic, wildlife, and recreation values in the Upper Colorado River Special Recreation Management Area:

Sixth Principal Meridian

T. 1 N., R. 80 W.,

Sec. 20, NW¼NW¼.

T. 1 N., R., 81 W.,

Sec. 28, N½SW¼ and SW¼SW¼;

Sec. 29, SE¼SE¼.

T. 1 S., R. 82 W.,

Sec. 14, SW¼SW¼;

Sec. 22, N½NE¼, SW¼NE¼, and SW¼;

Sec. 23. NW¼NW¼;

Sec. 26, lot 1 and SW¼NW¼;

Sec. 27, lots 1 and 2, and N½SE¼;

Sec. 33, that portion of Tract 70 lying within the NW¼NW¼.

T. 2 S., R. 82 W.,

Sec. 4, lot 22;

Sec. 7, that portion of Tract 41 lying in sec. 7.

The areas described aggregate approximately 1,020 acres in Grand and Eagle Counties.

3. The following described non-Federal lands, if acquired by the United States, will be subject to the terms and conditions of this withdrawal:

Sixth Principal Meridian

T. 1 N., R. 79 W.,

Sec. 7, lot 4, SE¼SW¼, and S½SE¼;

Sec. 18, lots 1 and 2, NE¼, E½NW¼, NE¼SW¼, and N½SE¼.

T. 1 N., R. 80 W.,

Sec. 12, S½S½;

Sec. 13, N½ and SW¼;

Sec. 14, N½, N½S½, N½S½SW¼, and SE¼SE¼;

Sec. 15, lots 8 and 10, S½NE¼, N½SE¼, N½NW¼SW¼, and S½NE¼SW¼;

Sec. 16, N½S½, exclusive of a reconveyed parcel of land;

Sec. 17, S½;

Sec. 18, lots 2, 3, and 4, SE¼NW¼, E½SW¼, and SE¼;

Sec. 19, lots 1 to 3, inclusive, W½NE¼, SE¼NE¼, E½NW¼, NE¼SW¼, and NW¼SE¼;

Sec. 20, N½N½, SE¼SW¼, and W½SW¼;

Sec. 21, N½NW¼.

T. 1 N., R. 81 W.,

Sec. 13, S½NE¼, N½SW¼, SE¼SW¼, and SE¼;

Sec. 14, SE¼ and E½SW¼;

Sec. 22, NE¼NE¼, S½NE¼, S½SW¼, and SE¼;

Sec. 23, NE¼, N½NW¼, SW¼NW¼, W½SW¼, SE¼SW¼, W½SE¼, and SE¼SE¼;

Sec. 24, N½N½;

Sec. 26, NW¼;

Sec. 28, N½SW¼ and SW¼SW¼;

Sec. 29, SE¼SE¼.

T. 1 S., R. 81 W.,

Sec. 6, lots 4 and 5;

Sec. 7, lot l.

T. 1 S., R. 82 W.,

Sec. 12, NW¼SW¼ and that portion of Tract 37 in the NE¼;

Sec. 13, that portion of Tract 53 lying easterly of the centerline of the Colorado River, and all of Tract 54;

Sec. 14, SW¼SW¼ and NW¼SE¼;

Sec. 22, NE¼ and SW¼;

Sec. 23, W½NW¼;

Sec. 24, Tract 76 lying in the E½NE¼;

Sec. 26, NW¼NW¼;

Sec. 27, lots 1 and 2, E½NE¼, N½SW¼, SE¼SW¼, N½SE¼, and those portions of W½NE¼ and E½NW¼ exclusive of reconveyed land;

Sec. 28, NE¼SE¼ and Tract 81 lying in the SW¼SE¼;

Sec. 32, Mineral Survey Nos. 13963, 18347A, and 18671;

Sec. 33, Mineral Survey Nos. 18801, 18671, 18347A and B, and that portion of Tract 70 lying within the NW¼NW¼.

T. 2 S., R. 82 W.,

Sec. 4, lot 22;

Sec. 5, that portion of Tract 39 lying within the S½SW¼NW¼ and NW¼SW¼;

Sec. 7, Tract 38 and that portion of Tract 41 in sec. 7.

T. 2 S., R. 83 W.,

Sec. 23, S½S½SE¼SE¼;

Sec. 26, NE¼NE¼ and NE¼NW¼NE¼.

The areas described aggregate approximately 7,020 acres in Grand and Eagle Counties.

4. The withdrawal made by this order does not alter the applicability of those public land laws governing the use of the land under lease, license, or permit, or governing the disposal of the mineral or vegetative resources other than under the mining laws.

5. This withdrawal will expire 20 years from the effective date of this order, unless, as a result of a review conducted before the expiration date pursuant to Section 204(f) of the Federal Land Policy and Management Act of 1976, 43 U.S.C. 1714(f) (1994), the Secretary determines that the withdrawal shall be extended.

Dated: October 3, 2000.
Sylvia V. Baca,
Assistant Secretary of the Interior.

[FR Doc. 00-26434 Filed 10-13-00; 8:45 am]

BILLING CODE 4310-JB-P